ENVIRONMENTAL PROTECTION AGENCY

[OPP-34202D; FRL-6779-8]

Organophosphate Pesticides; Availability of Risk Management Decision Documents

AGENCY: Environmental Protection Agency (EPA).

ACTION: Notice.

SUMMARY: This notice announces the availability of the risk management decision documents for two organophosphate pesticides, chlorpyrifos-methyl and ethion. These decision documents have been developed as part of the public participation process that EPA and the United States Department of Agriculture (USDA) are now using for involving the public in the reassessment of pesticide tolerances under the Food Quality Protection Act (FQPA), and the reregistration of individual organophosphate pesticides under the Federal Insecticide, Fungicide, and Rodenticide Act (FIFRA).

DATES: The risk management decision documents are available in the OPP docket under docket control number OPP-34202D.

ADDRESSES: Comments may be submitted by mail, electronically, or in person. Please follow the detailed instructions for each method as provided in Unit I.C. of SUPPLEMENTARY INFORMATION. To ensure proper receipt by EPA, it is imperative that you identify docket control number OPP-34202D for chlorpyrifos-methyl and ethion.

FOR FURTHER INFORMATION CONTACT: For general information contact: Carol Stangel, Special Review and Reregistration Division (7508C), Office of Pesticide Programs, Environmental Protection Agency, 1200 Pennsylvania Ave., NW., Washington, DC 20460; telephone number: (703) 308-8007; e-mail address: stangel.carol@epa.gov.

For technical information contact: For questions on the REDs, IREDs or TREDs in this document, contact the appropriate chemical review manager listed in the table in Unit I. of the SUPPLEMENTARY INFORMATION.

SUPPLEMENTARY INFORMATION:

I. General Information

A. Does this Action Apply to Me?

This action is directed to the public in general, nevertheless, a wide range of stakeholders will be interested in obtaining the risk management decision documents for chlorpyrifos-methyl and ethion, including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet homepage at http://www.epa.gov/. On the homepage select “Laws and Regulations,” “Regulations and Proposed Rules,” and then look up the entry for this document under the “Federal Register—Environmental Documents.” You can also go directly to the Federal Register listings at http://www.epa.gov/fedrgstr/. In addition, copies of the pesticide risk management decision documents released to the public may also be accessed at http://www.epa.gov/pesticides/reregistration/status.htm.

2. In person. The Agency has established an official record for this action under docket control numbers OPP-34202D. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

For questions on the REDs, IREDs or TREDs in this document, contact the appropriate Chemical Review Manager listed the following table:

Chemical Name | Case No. | Chemical Review Manager | Telephone No. | E-mail Address
Chlorpyrifos-methyl TRED | (None) | Stephanie Nguyen | (703) 605-0702 | nguyen.stephanie@epa.gov
Ethion RED | 0090 | Jill Bloom | (703) 308-8019 | bloom.jill@epa.gov

II. What Action is the Agency Taking?

EPA has assessed the risks of chlorpyrifos-methyl and ethion, and reached a Report on FQPA Tolerance Reassessment Progress and Interim Risk Management Decision (TRED) and a Reregistration Eligibility Decision (RED) for these two organophosphate pesticides, respectively.

1. Chlorpyrifos-methyl TRED. Initially registered in 1985, chlorpyrifos-methyl is not subject to reregistration but is being evaluated with other organophosphate pesticides under FQPA. An insecticide used on stored grain, chlorpyrifos-methyl has significant data gaps including developmental neurotoxicity studies required for all organophosphate pesticides under FQPA to evaluate their safety to children, and chemical-specific occupational exposure studies. Registrants of chlorpyrifos-methyl have requested voluntary cancellation of their products rather than develop the additional data requested by EPA to complete the toxicology data base. The chlorpyrifos-methyl TRED summarizes EPA's assessment of dietary and occupational risk from exposure to this pesticide, and identifies mitigation measures necessary to address these risks until all uses and registrations are phased out.

2. Ethion RED. An organophosphate insecticide, ethion is used primarily to control insects on citrus, mainly oranges and grapefruit in Florida, and also to control flies and ticks on cattle. Ethion has no residential uses, and residues in food are not of concern; however, EPA has risk concerns for workers handling this pesticide, as well as ecological risk concerns. Registrants of ethion have requested voluntary cancellation of their products, rather than committing to develop the additional data requested by EPA to assess risks for reregistration. The ethion RED summarizes EPA's worker and ecological risk conclusions, and identifies mitigation measures necessary to address these risks until all uses and registrations are phased out.

The risk management decisions for chlorpyrifos-methyl and ethion were made through the organophosphate pesticide pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation.

EPA worked extensively with affected parties to reach the decisions presented in the risk management decision documents, which conclude the pilot public participation process for chlorpyrifos-methyl and ethion. As part of the pilot public participation process, numerous opportunities for public comment were offered as these risk management decision documents were being developed. The chlorpyrifos-methyl and ethion risk management decision documents therefore are issued in final, without a formal public comment period. The docket remains open, however, and any comments submitted in the future will be placed in the public docket.

The risk assessments for chlorpyrifos-methyl and ethion, were released to the public through the following notices published in the Federal Register.

1. Notices for chlorpyrifos-methyl were published on October 6, 1999 (64 FR 54296) (FRL-6387-9), and April 28, 2000 (65 FR 24954) (FRL-6557-2).

2. Notices for ethion were published on August 12, 1998 (63 FR 43175) (FRL-6024-3), and July 14, 1999 (64 FR 37967) (FRL-6091-9).

EPA's next step under FQPA is to complete a cumulative risk assessment and risk management decision for the organophosphate pesticides, which share a common mechanism of toxicity. The risk management decision documents on chlorpyrifos-methyl and ethion, however, represent the Agency's final registration and reregistration eligibility decisions for these pesticides under the organophosphate pesticide review process.

When the cumulative risk assessment for the organophosphate pesticides has been completed, EPA will issue its final tolerance reassessment decision for chlorpyrifos-methyl. Tolerance revocations for ethion will be finalized when the cancellations become effective.

List of Subjects

Environmental protection, Chemicals, Pesticides and pests.

Dated: September 26, 2001.
Lois A. Rossi,
Director, Special Review and Reregistration Division, Office of Pesticide Programs.

[FR Doc. 01-25265 Filed 10-9-01; 8:45 a.m.]

BILLING CODE 6560-50-S